SECURITIES AND EXCHANGE COMMISSION

[File No. 500-1]

In the Matter of Information Architects Corporation; Order of Suspension of Trading

February 10, 2005.

It appears to the Securities and Exchange Commission that there is a lack of current and accurate information concerning the securities of Information Architects Corporation (“IACH”) because of questions regarding, among other things, (i) the authenticity of the Report of Independent Certified Public Accountants included in IACH's Form 10-KSB/A for the year ended December 31, 2003, filed with the Commission on April 22, 2004, including whether the audit report accompanying the financial statements was prepared and issued by the auditors identified; and (ii) the accuracy of statements made in an amended Form 10-KSB/A for the year ended December 31, 2003, filed with the Commission on October 15, 2004, including the statement that a second review of the financial statements is being performed by the company's auditors.

The Commission is of the opinion that the public interest and the protection of investors require a suspension of trading in securities related to IACH.

Therefore, it is ordered, pursuant to section 12(k) of the Securities Exchange Act of 1934, that trading in all securities, as defined in section 3(a)(10) of the Securities Exchange Act of 1934, issued by IACH, is suspended for the period from 9:30 a.m. e.s.t. on February 10, 2005, and terminating at 11:59 p.m. e.s.t. on February 24, 2005.

By the Commission.
Margaret H. McFarland,
Deputy Secretary.

[FR Doc. 05-2864 Filed 2-10-05; 11:33 am]

BILLING CODE 8010-01-P